DEPARTMENT OF COMMERCE

International Trade Administration

[A-570-831]

Fresh Garlic From the People's Republic of China: Affirmative Final Determination of Circumvention of the Antidumping Duty Order; Withdrawal

AGENCY: Enforcement and Compliance, International Trade Administration, Department of Commerce.

DATES: Applicable July 26, 2024, FR Doc. 2024-13378, published at 89 FR 51495 on June 18, 2024, is withdrawn.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On June 18, 2024, the U.S. Department of Commerce (Commerce) erroneously published a duplicate Federal Register notice titled Fresh Garlic from the People's Republic of China: Affirmative Final Determination of Circumvention of the Antidumping Duty Order. Commerce is withdrawing the above-mentioned notice, Federal Register Doc. 2024-13378.

Notification to Interested Parties

This notice is issued and published pursuant to sections 735(d) and 777(i)(1) of the Tariff Act of 1930, and 19 CFR 351.210(c).

Dated: July 17, 2024.
Ryan Majerus,
Deputy Assistant Secretary for Policy and Negotiations, performing the non-exclusive functions and duties of the Assistant Secretary for Enforcement and Compliance.

[FR Doc. 2024-16439 Filed 7-25-24; 8:45 am]

BILLING CODE 3510-DS-P